DEPARTMENT OF TRANSPORTATION

Federal Aviation Administration

Nineteenth Meeting: RTCA Special Committee 225, Rechargeable Lithium Battery and Battery Systems

AGENCY: Federal Aviation Administration (FAA), U.S. Department of Transportation (DOT).

ACTION: Meeting Notice of RTCA Special Committee 225, Rechargeable Lithium Battery and Battery Systems.

SUMMARY: The FAA is issuing this notice to advise the public of the nineteenth meeting of the RTCA Special Committee 225, Rechargeable Lithium Battery and Battery Systems.

DATES: The meeting will be held April 7-9, 2015 from 9:00 a.m.-5:00 p.m.

ADDRESSES: The meeting will be held at RTCA Headquarters, 1150 18th Street NW., Suite 910, Washington DC 20036.

FOR FURTHER INFORMATION CONTACT: The RTCA Secretariat, 1150 18th Street NW., Suite 910, Washington, DC 20036, or by telephone at (202) 330-0662/(202) 833-9339, fax (202) 833-9434, or Web site at http://www.rtca.org. In addition, Jennifer Iversen may be contacted directly at email: jiversen@rtca.org.

SUPPLEMENTARY INFORMATION: Pursuant to section 10(a)(2) of the Federal Advisory Committee Act (Pub. L. 92-463, 5 U.S.C., App.), notice is hereby given for a meeting of Special Committee 225. The agenda will include the following:

April 7th

• Introductions and administrative items (including DFO & RTCA Statement)

• Review agenda

• Review and approve summary from the last Plenary

• Review weekly Working Group disposition of FRAC comments

• Review changes made to DO-311A as a result of NTSB recommendations

• Review DO-311A plan

• Adjourn to working group

• Review Plenary action items

April 8th

• Review agenda, other actions

• Adjourn to working group

• Review Plenary action items

April 9th

• Review agenda, other actions

• Finalize plan/future meetings, if needed (WG meetings, Plenary schedule, PMC meeting)

• Adjourn to working group

• Working Group Report

• Review Plenary action items

• Approve DO-311A for submission to the PMC

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 12, 2015.
Mohannad Dawoud,
Management Analyst, NextGen, Program Oversight and Administration, Federal Aviation Administration.

[FR Doc. 2015-06260 Filed 3-17-15; 8:45 am]

BILLING CODE 4910-13-P